FEDERAL ELECTION COMMISSION

11 CFR Part 109

[Notice 2011-09]

Rulemaking Petition: Independent Expenditure Reporting

AGENCY: Federal Election Commission.

ACTION: Rulemaking petition: Notice of availability.

SUMMARY: On April 21, 2011, the Commission received a Petition for Rulemaking from Representative Chris Van Hollen. The Petition urges the Commission to revise and amend the regulations at 11 CFR 109.10(e)(1)(vi) regarding the reporting of independent expenditures by persons other than political committees. The Petition is available for inspection in the Commission's Public Records Office, on its website, http://www.fec.gov/fosers/, and through its Faxline service.

DATES: Statements in support of or in opposition to the Petition must be submitted on or before August 22, 2011.

ADDRESSES: All comments must be in writing. Comments may be submitted electronically via the Commission's Web site at http://www.fec.gov/fosers/. Commenters are encouraged to submit comments electronically to ensure timely receipt and consideration. Alternatively, comments may be submitted in paper form. Paper comments must be sent to the Federal Election Commission, Attn.: Robert M. Knop, Assistant General Counsel, 999 E Street, NW., Washington, DC 20463. All comments must include the full name and postal service address of a commenter, and of each commenter if filed jointly, or they will not be considered. The Commission will post comments on its website at the conclusion of the comment period.

FOR FURTHER INFORMATION CONTACT: Mr. Robert M. Knop, Assistant General Counsel, or Ms. Cheryl A. F. Hemsley, Attorney, 999 E Street, NW., Washington, DC 20463, (202) 694-1650 or (800) 424-9530.

SUPPLEMENTARY INFORMATION: The Federal Election Commission (“Commission”) has received a Petition for Rulemaking from United States Representative Chris Van Hollen. The petitioner asks that the Commission revise and amend 11 CFR 109.10(e)(1)(vi) “relating to disclosure of donations made to persons [other than political committees], including corporations and labor organizations, which make independent expenditures, in order to conform the regulation with the law.” The Commission seeks comments on the petition.

Copies of the Petition for Rulemaking are available for public inspection at the Commission's Public Records Office, 999 E Street, NW., Washington, DC 20463, Monday through Friday between the hours of 9 a.m. and 5 p.m., and on the Commission's Web site, http://www.fec.gov/fosers/. Interested persons may also obtain a copy of the Petition by dialing the Commission's Faxline service at (202) 501-3413 and following its instructions, at any time of the day and week. Request document #271.

Consideration of the merits of the Petition will be deferred until the close of the comment period. If the Commission decides that the Petition has merit, it may begin a rulemaking proceeding. Any subsequent action taken by the Commission will be announced in the Federal Register.

Dated: June 15, 2011.
Cynthia L. Bauerly,
Chair, Federal Election Commission.

[FR Doc. 2011-15328 Filed 6-20-11; 8:45 am]

BILLING CODE 6715-01-P